DEPARTMENT OF THE INTERIOR

National Park Service

Notice of Inventory Completion: Missouri Department of Natural Resources

AGENCY: National Park Service, Interior.

ACTION: Notice.

Notice is here given in accordance with the Native American Graves Protection and Repatriation Act (NAGPRA), 25 U.S.C. 3003, of the completion of an inventory of human remains in the possession of the Missouri Department of Natural Resources, Jefferson City, MO. The human remains were removed from archeological site 23CK116, the Illiniwek Village State Historic Site, Clark County, MO.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Missouri Department of Natural Resources professional staff in consultation with representatives of the Peoria Tribe of Indians of Oklahoma.

In 1998, human remains representing a minimum of one individual were removed from 23CK116, the Illiniwek Village State Historic Site, in Clark County, MO (burial case 95¯006). The human remains were recovered by Department of Natural Resources, Division of State Parks archeologists in 1998 from an actively eroding farm road crossing the Illiniwek Village site. The human remains were transported to Jefferson City and have been kept in curation in a state¯owned facility. No known individual was identified. No associated funerary objects are present.

The human remains have been identified as Illinois based on the information in the 1673 Mississippi river journals of Marquette and Joliet, describing a village on the Des Moines River known as “Peoria” with approximately 8,000 inhabitants, and on the recovery of historic artifacts and trade goods. The human remains are very gracile, as is typical of the Illinois.

Officials of the Missouri Department of Natural Resources have determined that, pursuant to 25 U.S.C. 3001 (9¯10), the human remains described above represent the physical remains of one individual of Native American ancestry. Officials of the Missouri Department of Natural Resources also have determined that, pursuant to 25 U.S.C. 3001 (2), there is a relationship of shared group identity that can be reasonably traced between the Native American human remains and the Peoria Tribe of Indians of Oklahoma.

Representatives of any other Indian tribe that believes itself to be culturally affiliated with the human remains should contact Judith Deel, Department of Natural Resources, State Historic Preservation Office, 101 East High Street, Jefferson City, MO 65101, telephone (573) 751¯7862, before March 24, 2005. Repatriation of the human remains to the Peoria Tribe of Indians of Oklahoma may proceed after that date if no additional claimants come forward.

The Missouri Department of Natural Resources is responsible for notifying the Peoria Tribe of Indians of Oklahoma that this notice has been published.

Sherry Hutt,
Manager, National NAGPRA Program.

[FR Doc. 05-3322 Filed 2-18-05; 8:45 am]

BILLING CODE 4312-50-S